DEPARTMENT OF THE INTERIOR

Bureau of Reclamation

Northwest Area Water Supply Project, North Dakota

AGENCY: Bureau of Reclamation, Interior.

ACTION: Notice of public open-house scoping meetings associated with an environmental impact statement (EIS) being prepared for the completion of the Northwest Area Water Supply Project.

SUMMARY: The original notice of intent to prepare this EIS was published in the Federal Register on March 6, 2006 (71 FR 43, 11226-11227). This notice is being published to notify interested parties of the dates, times and locations of the public scoping meetings scheduled to solicit public comments. These public scoping meetings will be conducted in an open-house format with displays and Reclamation representatives who will be available for visitation or to accept a written comment. Reclamation is engaging in this planning and EIS effort to address the relevant issues related to completion and operation of the NAWS Project. We are seeking input from the public on the development of reasonable alternatives to the proposed action and analysis of their environmental effects that will be described in the EIS.

Reclamation invites all interested parties to submit verbal or written comments related to the significant issues, potential impacts and reasonable alternatives to the proposed action during the scoping period.

DATES: The public scoping meetings will be held on:

• Tuesday, April 25, 2006, 6:30 p.m., Bismarck, North Dakota.

• Thursday, April 27, 2006, 6:30 p.m., Fort Yates, North Dakota.

• Monday, May 1, 2006, 6:30 p.m., Minot, North Dakota.

• Tuesday, May 2, 2006, 6:30 p.m., New Town, North Dakota.

• Wednesday, May 3, 2006, 6:30 p.m., Bottineau, North Dakota.

• Thursday, May 4, 2006, 6:30 p.m., Mohall, North Dakota.

To be most helpful to Reclamation, scoping comments should be received on or before the close of the formal scoping period, May 6, 2006. Comments received after May 6, 2006 will be considered to the extent possible in the development of the Draft EIS.

ADDRESSES: The open-house, public scoping meetings will be held at:

• Best Western Doublewood Inn, Executive Suite 114, 1400 Interchange Avenue, Bismarck, ND.

• Prairie Knights Casino and Resort, 7932 Highway 24, Fort Yates, ND.

• Sleep Inn—Inn and Suites, 2400 10th Street NW., Minot, ND.

• 4 Bears Casino & Lodge, Mandan Hidatsa Room, 202 Frontage Road, New Town, ND.

• MSU—Bottineau, Nelson Science Center Room 125, 105 Simrall Boulevard, Bottineau, ND.

• Mohall City Hall, 203 Main Street East, Mohall, ND.

• Send written comments to Alicia Waters, Northwest Area Water Supply Project EIS, Bureau of Reclamation, Dakotas Area Office, P.O. Box 1017, Bismarck ND 58502.

FOR FURTHER INFORMATION CONTACT: Alicia Waters, Northwest Area Water Supply Project EIS, Bureau of Reclamation, Dakotas Area Office, P.O. Box 1017, Bismarck ND 58502; Telephone: (701) 250-4242 extension 3621; or FAX to (701) 250-4326. You may submit e-mail to awaters@gp.usbr.gov.

SUPPLEMENTARY INFORMATION: The formal scoping period began on March 6, 2006 and concludes on May 5, 2006. Oral and written comments, including names and home addresses of respondents, will be made available for public review. However, individual respondents may request that we withhold their home address from public disclosure, which will be honored to the extent allowable by law. There may be circumstances in which a respondent's identity may also be withheld from public disclosure, as allowable by law. If you wish to have your name and/or address withheld, you must state this prominently at the beginning of your written comment or verbally to the Reclamation representative. All submissions from organizations or businesses, and from individuals identifying themselves as representatives or officials of organizations or businesses, will be made available for public disclosure in their entirety.

Persons needing reasonable accommodations in order to attend and participate in the public meeting should contact Patience Hurley, at (701) 250-4242 extension 3107 as soon as possible. In order to allow sufficient time to process requests, please call no later than 1 week before the meeting.

Dated: March 22, 2006.
Donald E. Moomaw,
Acting Regional Director, Great Plains Region, Bureau of Reclamation.

[FR Doc. E6-5175 Filed 4-7-06; 8:45 am]

BILLING CODE 4310-MN-P